DEPARTMENT OF THE INTERIOR

National Park Service

Public Scoping for Proposed Construction of a Two-Unit Vault Toilet Comfort Station To Replace the Existing Portable Chemical Toilets at Gravelly Point, a Unit of the George Washington Memorial Parkway (GWMP)

AGENCY: National Park Service Interior.

ACTION: Availability of the proposal for the construction of a two-unit vault toilet comfort station to replace the existing portable chemical toilets at Gravelly Point.

SUMMARY: Pursuant to Council on Environmental Quality regulations and National Park Service policy, the National Park Service announces the availability of a proposal for the construction of a two-unit vault toilet comfort station to replace the existing portable chemical toilets at Gravelly Point within the George Washington Memorial Parkway (GWMP). The proposal is examining several alternatives for the specific location of the temporary vault toilet unit. The National Park Service is soliciting comments on this proposal. These comments will be considered in preparing the Environmental Assessment pursuant to the National Environmental Policy Act (NEPA).

DATES: The proposal will remain available for public comment on or before June 13, 2001. Written comments should be post marked no later than this date.

ADDRESSES: Comments on this Environmental Assessment should be submitted in writing to: Ms. Audrey F. Calhoun, Superintendent, George Washington Memorial Parkway, Turkey Run Park, McLean, Virginia 22101. The Environmental Assessment will be available for public inspection Monday through Friday, 8 a.m. through 4 p.m. at GWMP Headquarters, Turkey Run Park, McLean, VA, on the National Park Service Website www.nps.gov/gwmp and at various libraries in the City of Alexandria and Arlington County, Virginia.

SUPPLEMENTARY INFORMATION: The National Park Service proposes to construct a two-unit vault toilet comfort station to replace the existing 2-4 portable chemical toilets at Gravelly Point within the GWMP and the possible relocation of an area designated as Governors Grove. An estimated 1 million visitors per year use the Gravelly Point area, which is accessible from the northbound GWMP as well as the Mount Vernon Trail (MVT). Since there is no water or sewer available at Gravelly Point, the National Park Service currently provides 4 portable toilets between April and November and 2 portable toilets December through March on a rental basis. The NPS would like to replace these rental units with an alternative that is less likely to cause environmental concern from being tipped over, that is fully accessible in accordance with the Americans with Disabilities Act and that have a larger holding capacity than the portable toilets. This would reduce the number of portable toilets needed and the frequency of pumping them. The intent of the proposed two-unit vault toilet comfort station is to provide an environmentally sound and fully accessible comfort station for visitors to this site that will better serve the public until a more permanent solution is found such as water and sewer eventually being brought to Gravelly Point. The overall goal is to meet this visitor need while preserving the viewshed from the GWMP, a property listed on the National Register of Historic Places, protecting the integrity of cultural landscape features such as Governors Grove and preventing interference with ground radar at National Airport (height restrictions). The proposed action is based on observations by National Park Service staff that existing conditions are in need of improvement at this location.

All interested individuals, agencies, and organizations are urged to provide comments on the proposal. The National Park Service, in preparing an EA regarding this matter, will consider all comments received by the closing date.

FOR FURTHER INFORMATION CONTACT: Mr. Dan Sealy (703) 289-2531.

Dottie Marshall,
Acting Superintendent, George Washington Memorial Parkway.

[FR Doc. 01-12083 Filed 5-11-01; 8:45 am]

BILLING CODE 4310-70-P